DEPARTMENT OF ENERGY

Federal Energy Regulatory Commission

[Docket No. RP00-536-000]

Venice Gathering System, L.L.C.; Notice of Pro Forma Tariff Filing in Compliance With Order No. 637

September 7, 2000.

Take notice that on September 1, 2000, Venice Gathering system, L.L.C. (VGS), submitted a pro forma tariff filing to comply with Order No. 637. VGS was required to make its compliance filing on August 15, 2000, but was granted an extension of the August 15 filing deadline by a Commission letter order issued August 4, 2000. VGS states that it is submitting certain tariff sheets to implement the policies implemented in Order No. 637, including but not limited to the removal of the price cap, scheduling, segmentation of capacity, imbalance management, operational flow orders, tariff penalties, and the contractual right of first refusal.

Any person desiring to be heard or to protest said filing should file a motion to intervene or a protest with the Federal Energy Regulatory Commission, 888 First Street, NE., Washington, DC 20426, in accordance with Sections 385.214 or 385.211 of the Commission's Rules and Regulations. All such motions or protests must be filed on or before October 2, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23444 Filed 9-12-00; 8:45 am]

BILLING CODE 6717-01-M